DEPARTMENT OF HEALTH AND HUMAN SERVICES

Mississippi Institute for Improvement of Geographic Minority Health and Health Disparities Program

AGENCY: Office of Minority Health, Office of Public Health and Science, Office of the Secretary, HHS.

ACTION: Notice.

Announcement Type: Competitive Initial Announcement of Availability of Funds.

Catalog of Federal Domestic Assistance Number: Mississippi Institute for Improvement of Geographic Minority Health and Health Disparities Program—93.137.

DATES: Application Availability Date: June 14, 2006. Application Deadline: July 14, 2006.

SUMMARY: This announcement is made by the United States Department of Health and Human Services (HHS or Department), Office of Minority Health (OMH) located within the Office of Public Health and Science (OPHS), and working in a “One-Department” approach collaboratively with participating HHS agencies and programs (entities). The mission of the OMH is to improve the health of racial and ethnic minority populations through the development of policies and programs that address disparities and gaps. OMH serves as the focal point in the HHS for leadership, policy development and coordination, service demonstrations, information exchange, coalition and partnership building, and related efforts to address the health needs of racial and ethnic minorities. This announcement supports the Healthy People 2010 overarching goal to eliminate health disparities.

As part of a continuing HHS effort to improve the health and well being of racial and ethnic minorities, the Department announces availability of FY 2006 funding for the Mississippi Institute for Improvement of Geographic Minority Health and Health Disparities Program. Despite significant improvements in the overall health status of the nation over the past decades, disparities in health status continue to persist among racial and ethnic minority and disadvantaged populations. Such disparities are clearly illustrated by health status statistics in southern areas of the United States. Mississippi serves as an important pilot location for the development of a geographic and minority health disparities model for the nation. Mississippi has a population of 2.8 million, 37 percent of whom are African American, and 51percent of whom live in rural areas. It is the fourth most rural state in the nation, and is ranked 31st in terms of population size. The significant disease burden of the state is well documented. It ranks first of all states and the District of Columbia in mortality rates due to cardiovascular disease (30 percent higher than the national average). In 1996, the cardiovascular disease-related death rate for African Americans in the state was 37 percent greater than for whites, and 60 percent greater than the overall national rate. Stroke mortality, the third leading cause of death in Mississippi, is 18 percent higher than the rate for the U.S. as a whole. It has the highest prevalence of diabetes and obesity in the nation; approximately 9 percent of the state's adult population are diabetic and 55 percent are obese. Mississippi ranks 5th highest overall in cancer mortality rates among the 50 states and the District of Columbia. African Americans make up more than 75 percent of the state's reported new AIDS cases. Premature death rates are almost 2 times greater for American Indians and 1.5 times greater for African Americans than whites. The infant mortality rate in a number of counties along the Mississippi Delta is three times that of the national average.

Mississippi has many challenges affecting access to medical care. Almost one-quarter of the state's population, aged 18 to 64, report having no health insurance; higher than the 15.7 percent of people nationally without health insurance in 2004, according to the U.S. Census. Other reasons for insufficient access include the state's ratio of medical doctors to its general population, which is about half the national average, and the large percentage of rural, sparsely-populated areas within the state. Access to health care and delivery of services to a sizeable population in Mississippi, already inadequate, have been further impacted by the devastation caused by last year's hurricanes. The Gulf Coast of Mississippi suffered massive damage from the impact of Hurricane Katrina on August 29, 2005, leaving 236 people dead, 67 missing, and an estimated $125 billion in damages. Mississippi's healthcare system has been seriously disrupted, resulting in new health problems for people living in affected areas. The grant will provide an opportunity to address these health problems and to aid in restructuring the healthcare system.

SUPPLEMENTARY INFORMATION:

Table of Contents

Section I. Funding Opportunity Description

1. Purpose

2. OMH Expectations

3. Applicant Project Results

4. Project Requirements

Section II. Award Information

Section III. Eligibility Information

1. Eligible Applicants

2. Cost Sharing or Matching

3. Other

Section IV. Application and Submission Information

1. Address To Request Application Package

2. Content and Form of Application Submission

3. Submission Dates and Time

4. Intergovernmental Review

5. Funding Restrictions

Section V. Application Review Information

1. Criteria

2. Review and Selection Process

3. Anticipated Award Date

Section VI. Award Administration Information

1. Award Notices

2. Administrative and National Policy Requirements

3. Reporting Requirements

Section VII. Agency Contacts

Section VIII. Other Information

1. Healthy People 2010

2. Definitions

Section I. Funding Opportunity Description

Authority: This program is authorized under 42 U.S.C. 300u-6, section 1707 of the Public Health Service Act, as amended.

1. Purpose

The Mississippi Institute for Improvement of Geographic Minority Health and Health Disparities Program is designed to address the many and significant health disparities faced by rural disadvantaged and minority populations throughout the state. This program is intended to demonstrate the effectiveness and efficiency of a targeted and multifaceted statewide approach for eliminating health disparities. The grant requires a multi-partner effort, involving institutions of higher education, state and local health agencies, faith and community-based organizations, healthcare organizations, and other stakeholders to tackle the state-wide challenge.

2. OMH Expectations

It is expected that the model will fill an existing void for addressing the significant and increasing disparities among the targeted populations and communities in Mississippi that will lead to:

Increased awareness by all populations of healthcare issues impacting rural disadvantaged and minority communities;

Increased access to quality healthcare for rural disadvantaged and minority populations;

Increased number of healthcare personnel available to provide services to rural disadvantaged and minority populations;

Improved health outcomes for rural disadvantaged and minority populations.

Over the long term, OMH intends to use the model developed under this project and variations of the model to address national policies and programs to improve the health of rural disadvantaged and minority communities.

3. Applicant Project Results

Applicants must identify anticipated project results that are consistent with the overall program purpose and OMH expectations. Project results should fall within the following general categories:

Mobilizing Communities and Partnerships

Increasing Knowledge and Awareness

Changing Behavior and Utilization

Increasing Access to Health Care Services

Policy Research

Changing Systems

Improving Data and Evaluation

4. Project Requirements

Each applicant under the proposed model program must propose to:

Establish the Mississippi Institute for Improvement of Geographic Minority Health and Health Disparities to serve as a hub of state-wide activity, services and information on health disparities and the impact on Mississippi's racial, ethnic, and rural communities. Form partnerships with health professions schools, state and/or local health agencies, healthcare organizations, faith and community based organizations, and other stakeholders to build the research/science/knowledge base on health disparities and evidence-based practices; foster dialogue on public policy, research and health system issues; carry out community outreach and other public education/awareness activities; develop and disseminate culturally appropriate educational materials for healthcare providers and consumers; promote training of a culturally diverse healthcare workforce; train providers to deliver appropriate care to rural and minority communities; and address the use of technology to improve the quality of health systems and delivery of care. Develop, establish, and conduct programs, initiatives, and activities through four core components within the Institute: Research, Services, Education/Awareness, and Health Information.

Develop a cadre of researchers/investigators from historically black colleges and universities within the state.

Establish an advisory board to provide advice and guidance on program implementation, design, and direction.

A signed Memorandum of Agreement (MOA) between the applicant organization and each partner organization must be submitted with the application. Each MOA must clearly detail the roles and resources (including in-kind) that each entity will bring to the project; state the duration and terms of the agreement; cover the entire project period; and be signed by an individual with the authority to represent the organization.

Section II. Award Information

Estimated Funds Available for Competition: $5,000,000 in FY 2006.

Anticipated Number of Awards: 1.

Range of Awards: $5,000,000.

Anticipated Start Date: September 1, 2006.

Period of Performance: 3 Years (September 1, 2006 to August 31, 2009).

Budget Period Length: 12 months.

Type of Award: Grant.

Type of Application Accepted: New.

Section III. Eligibility Information

1. Eligible Applicants

To qualify for funding, an applicant must be located in the State of Mississippi and must be a:

(1) Health professions school or academic health center; or

(2) Private nonprofit community-based, minority-serving organization which addresses health or human services; or

(3) State or local government agency which addresses health or human services.

This competition is limited to the State of Mississippi.

Other entities that meet the definition of private non-profit community-based, minority-serving organization and the above criteria that are eligible to apply are:

Faith-based organizations.

Tribal governments and organizations.

The organization submitting the application will:

Serve as the lead agency for the project, responsible for its implementation and management; and

Serve as the fiscal agent for the Federal grant awarded.

2. Cost Sharing or Matching

Matching funds are not required for the Institute Program.

3. Other

This competition is limited to the State of Mississippi, based on its dire health care needs as described in the Summary. Additionally, due to last year's hurricanes, Mississippi's healthcare system has been seriously disrupted, adding to the myriad of health problems for people living in the state. The grant will provide an opportunity to address these health problems and to aid in restructuring the healthcare system.

If funding is requested in an amount greater than the ceiling of the award range, the application will be considered non-responsive and will not be entered into the review process. The application will be returned with notification that it did not meet the submission requirements.

Applications that are not complete or that do not conform to or address the criteria of this announcement will be considered non-responsive and will not be entered into the review process. The application will be returned with notification that it did not meet the submission requirements.

No more than one application per organization may be submitted to the Mississippi Institute for Improvement of Geographic Minority Health and Health Disparities Program. Those organizations submitting more than one proposal for this grant program will be deemed ineligible, and the proposals will be returned without comment.

Organizations are not eligible to receive funding from more than one OMH grant program to carry out the same project and/or activities.

Section IV. Application and Submission Information

1. Address To Request Application Package

Application kits may be obtained: At http://www.omhrc.gov. By writing to the Office of Grants Management, OPHS, Tower Building, 1101 Wootton Parkway, Suite 550, Rockville, MD 20852; or contact the Office of Grants Management at (240) 453-8822. Application kits may also be requested by fax at (240) 453-8823. Please specify the program name, Mississippi Institute for Improvement of Geographic Minority Health and Health Disparities Project, when requesting an application kit.

2. Content and Form of Application Submission

A. Application and Submission

Applicants must use Grant Application Form OPHS-1 and complete the Face Page/Cover Page (SF 424), Checklist, and Budget Information Forms for Non-Construction Programs (SF 424A). In addition, the application must contain a project narrative. The project narrative (including summary and appendices) is limited to 60 pages double-spaced.

The narrative must be printed on one side of 8½ by 11 inch white paper, with one inch margins, double-spaced and 12-point font. All pages must be numbered sequentially including any appendices. (Do not use decimals or letters, such as: 1.3 or 2A.) Do not staple or bind the application package.

The narrative description of the project must contain the following, in the order presented:

Table of Contents.

Project Summary: Describe key aspects of the Background, Objectives, Program Plan, and Evaluation Plan. The summary is limited to 3 pages.

Background:

Statement of Need: Provide a clearly stated description of the scope of the problems to be addressed by the project, and methods that will be implemented to create an Institute focusing on research, services, education/awareness, and health information. Identify partner organizations and provide the rationale for including them in the project.

Organizational Capability: Discuss the applicant organization's experience in managing project/activities, especially those targeting the population to be served, and the major accomplishments achieved. Indicate where the Institute will be located within the organization's structure, the reporting channel and how this location will allow the Institute to be successful with an effort of this magnitude. Provide a chart of the proposed project's organizational structure, showing who will report to whom and how this structure will facilitate efficient communications and timely action on key project activities. Describe how the partner organizations will interface with the applicant organization.

Objectives: State objectives in measurable terms, with baseline data and quantified expected outcome(s), and realistic target date(s) for achievement. Objectives must address each of the four program components (i.e., research, services, education/awareness, and health information) as spelled out under the Project Requirements section.

Program Plan: Describe in detail the specific project activities and strategies to be implemented to achieve each stated objective. The description should encompass information about how, when, where, for whom, and by whom activities will take place. Include a description of the active role of partner organizations in the development and implementation phases of the project. Include projected numbers of participants/beneficiaries for each activity/service. Activities must be conducted in the areas of research, services, education/awareness, and health information.

—Research. At a minimum, this activity must include:

(1) Strategies for improving the quantity and quality of data and information on the health status of rural and minority populations; identification of key health factors impacting the health of rural and minority populations; and methods for tracking changes in the health status of the targeted populations.

(2) Preventive and clinical interventions to improve the health status of rural and minority populations.

(3) Research centered on delivery of healthcare services and health policy.

—Services. At a minimum, this activity must include:

(1) Strategies, methods, and/or program models to increase the health status of rural and minority populations using community and evidence-based service delivery models that integrate and more efficiently manage existing health care resources.

—Education/Awareness. At a minimum, this activity must include:

(1) Strategies for improving availability and accessibility of information in a format and in venues that reach individuals, health care providers/practitioners, health care organizations/associations, business leaders and others.

(2) Community-based health education and consumer education models.

(3) Training of primary healthcare providers from diverse backgrounds, both geographic and racial/ethnic, to better serve the target population and to increase the number and availability of healthcare providers serving these populations.

(4) Training efforts designed to expand the health education pipeline.

—Health Information. At a minimum, this activity must include:

(1) An electronic medical records system that would be accessible by both providers and patients.

(2) An interconnected, state-wide health data exchange network.

Discuss strategies and identify funding sources for sustaining the Institute and all of its activities after the end of the Federally funded project period. Provide a timetable and the level of financial support needed to achieve self-sufficiency.

Provide a description of the proposed program staff, including resumes and job descriptions for key staff, qualifications and responsibilities of each staff member, and percent of time each will commit to the project. Provide a description of duties for any proposed consultants. Describe any products to be developed by the project. Provide a timeline for the project.

Evaluation Plan: The evaluation plan must clearly articulate how program activities will be evaluated. The evaluation plan must be able to produce documented results that demonstrate whether and how the strategies and activities funded under the Program made a difference in eliminating racial/ethnic and rural health disparities. The plan should identify the expected results (i.e., a particular impact, outcome or product) for each objective and major activity. The description should include data collection and analysis methods, demographic data to be collected on project participants, process measures describing indicators to be used to monitor and measure progress toward achieving projected results by objective, outcome measures to determine if the project has accomplished planned activities, and impact measures to demonstrate achievement of the goal to positively affect health disparities.

Discuss plans to document the steps which others may follow to replicate the proposed project in similar communities. Describe a comprehensive plan for diffusion of project results to other communities. The plan must include expectations for publishing results in professional literature and to communities in a manner and through venues that they access.

In addition to the project narrative, the application must contain a detailed budget justification which includes a narrative explanation and indicates the computation of expenditures for each year for which grant support is requested. (The budget justification does not count toward the page limitation.)

B. Data Universal Numbering System number (DUNS)

Applications must have a Dun & Bradstreet (D&B) Data Universal Numbering System number as the universal identifier when applying for Federal grants. The D&B number can be obtained by calling (866) 705-5711 or through the Web site at http://www.dnb.com/us/.

3. Submission Dates and Times

Application Deadline Date: July 14, 2006.

Submission Mechanisms

The Office of Public Health and Science provides multiple mechanisms for the submission of applications, as described in the following sections. Applicants will receive notification via mail from the Office of Grants Management, OPHS, confirming the receipt of applications submitted using any of these mechanisms. Applications submitted after the deadline described below will not be accepted for review. Applications that do not conform to the requirements of the grant announcement will not be accepted for review and will be returned to the applicant.

You may submit your application in either electronic or paper format.

To submit an application electronically, use either the OPHS eGrants web site, https://egrants.osophs.dhhs.gov or the Grants.gov web site, http://www.Grants.gov/. OMH will not accept grant applications via any other means of electronic communication, including email or facsimile transmission.

Electronic Submission

If you choose to submit your application electronically, please note the following: Electronic submission is voluntary, but strongly encouraged. You will not receive additional point value because you submit a grant application in electronic format, nor will you be penalized if you submit an application in paper format. The electronic application for this program may be accessed on https://egrants.osophs.dhhs.gov (eGrants) or on http://www.grants.gov/ (Grants.gov). If using Grants.gov, you must search for the downloadable application package by the CFDA number (93.910).

When you enter the eGrants or the Grants.gov sites, you will find information about submitting an application electronically, as well as the hours of operation. We strongly recommend that you do not wait until the deadline date to begin the application process. Visit eGrants or Grants.gov at least 30 days prior to filing your application to fully understand the process and requirements. Grants.gov requires organizations to successfully complete a registration process prior to submission of an application. The body of the application and required forms can be submitted electronically using either system. Electronic submissions must contain all forms required by the application kit, as well as the Program Narrative, Budget Narrative, and any appendices or exhibits. Applicants using eGrants are also required to submit, by mail, a hard copy of the face page (SF424) with the original signature of an individual authorized to act for the applicant agency or organization and to assume for the organization the obligations imposed by the terms and conditions of the grant award. (Applicants using Grants.gov are not required to submit a hard copy of the SF424, as Grants.gov uses digital signature technology.) If required, applicants using eGrants may also need to submit a hard copy of SF LLL, and/or certain program related forms (e.g., Program certifications) with original signatures.

Any other hard copy materials, or documents requiring signature, must also be submitted via mail. Mail-in items may only include publications, resumes, or organizational documentation. (If applying via eGrants, the applicant must identify the mail-in items on the Application Checklist at the time of electronic submission.) The application will not be considered complete until both the electronic application components and any hard copy materials or original signatures are received. All mailed items must be received by the Office of Grants Management, OPHS by the deadline specified below.

Your application must comply with any page limitation requirements described in this program announcement.

We strongly encourage you to submit your electronic application well before the closing date and time so that if difficulties are encountered you can still send in a hard copy overnight. If you encounter difficulties, please contact the eGrants Help Desk at 1-301-231-9898 x142 (egrants-help@osophs,dhhs.gov), or the Grants.gov Help Desk at 1-800-518-4726 (support@grants.gov) to report the problem and obtain assistance with the system.

Upon successful submission via eGrants, you will receive a confirmation page indicating the date and time (Eastern Time) of the electronic application submission. The confirmation will also provide a listing of all items that constitute the final application submission including all electronic application components, required hard copy original signatures, and mail-in items, as well as the mailing address of the Office of Grants Management, OPHS, where all required hard copy materials must be submitted and received by the deadline specified below. As items are received by that office, the application status will be updated to reflect their receipt. Applicants are advised to monitor the status of their applications in the OPHS eGrants system to ensure that all signatures and mail-in items are received.

Upon successful submission via Grants.gov, you will receive a confirmation page indicating the date and time (Eastern Time) of the electronic application submission, as well as the Grants.gov Receipt Number. It is critical that you print and retain this confirmation for their records, as well as a copy of the entire application package. Applications submitted via Grants.gov also undergo a validation process. Once the application is successfully validated by Grants.gov, you will again be notified and should immediately mail all required hard copy materials to the Office of Grants Management, OPHS, to be received by the deadline specified below. It is critical that you clearly identify the Organization name and Grants.gov Application Receipt Number on all hard copy materials. Validated applications will be electronically transferred to the OPHS eGrants system for processing. Any applications deemed “Invalid” by Grants.gov will not be transferred to the eGrants system. OPHS has no responsibility for any application that is not validated and transferred to OPHS from Grants.gov.

Electronic grant application submissions must be submitted no later than 5 p.m. Eastern Time on July 14, 2006. All required hard copy original signatures and mail-in items must be received by the Office of Grants Management, OPHS, no later than 5 p.m. Eastern Time on the next business day after the deadline.

Mailed or Hand-Delivered Hard Copy Applications

Applicants who submit applications in hard copy (via mail or hand-delivered) are required to submit an original and two copies of the complete application. The original application must be signed by an individual authorized to act for the applicant agency or organization and to assume for the organization the obligations imposed by the terms and conditions of the grant award. The original and each of the two copies must include all required forms, certifications, assurances, and appendices.

Mailed or hand-delivered applications will be considered as meeting the deadline if they are received by the Office of Grants Management, OPHS, on or before 5 p.m. Eastern Time on July 14, 2006. The application deadline date requirement specified in this announcement supersedes the instructions in the OPHS-1. Applications that do not meet the deadline will be returned to the applicant unread.

For applications submitted in hard copy, send an original, signed in blue ink, and two copies of the complete application to: Ms. Karen Campbell, Director, OPHS Office of Grants Management, 1101 Wootton Parkway, Suite 550, Rockville, MD 20852. Required hard copy mail-in items should be sent to this same address.

4. Intergovernmental Review

The Mississippi Institute for Improvement of Geographic Minority Health and Health Disparities Program is subject to the requirements of Executive Order 12372 which allows States the option of setting up a system for reviewing applications from within their States for assistance under certain Federal programs. Mississippi has chosen to set up a review system and has designated a State Single Point of Contact (SPOC) for Mississippi.

The Mississippi SPOC is: Ms. Janet Riddell, Clearinghouse Officer, Department of Finance and Administration, 1301 Woolfolk Building, Suite E, 501 North West Street, Jackson, Mississippi 39201. Telephone: (601) 359-6762. Fax: (601) 359-6758 Jriddell@dfa.state.ms.us.

You should contact your SPOC as early as possible to alert her to the prospective application and receive any necessary instructions on the State process. The due date for the State process recommendation is 60 days after the application deadline established by the OPHS Grants Management Officer. The Office of Minority Health does not guarantee that it will accommodate or explain its responses to the State process recommendation, if received after that date. (See “Intergovernmental Review of Federal Programs,” Executive Order 12372, and 45 CFR Part 100 for a description of the review process and requirements).

The Mississippi Institute for Improvement of Geographic Minority Health and Health Disparities Program is subject to Public Health Systems Reporting Requirements. Under these requirements, community-based non-governmental applicants must prepare and submit a Public Health System Impact Statement (PHSIS). The PHSIS is intended to provide information to State and local officials to keep them apprised of proposed health services grant applications submitted by community-based organizations within their jurisdictions.

Community-based non-governmental applicants are required to submit, no later than the Federal due date for receipt of the application, the following information to the head of the appropriate State or local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letter forwarding the PHSIS to these authorities must be contained in the application materials submitted to the OPHS.

5. Funding Restrictions

Budget Request: If funding is requested in an amount greater than the ceiling of the award range, the application will be considered non-responsive and will not be entered into the review process. The application will be returned with notification that it did not meet the submission requirements.

Grants funds may be used to cover costs of:

Personnel.

Consultants.

Equipment.

Supplies.

Grant-related travel (domestic only).

Other grant-related costs.

Grants funds may not be used for:

Building alterations or renovations.

Construction.

Fund raising activities.

Job training.

Medical care, treatment or therapy.

Political education and lobbying.

Research studies involving human subjects.

Vocational rehabilitation.

Guidance for completing the budget can be found in the Program Guidelines, which are included with the complete application kit.

Section V. Application Review Information

1. Criteria

The technical review of the Mississippi Institute for Improvement of Geographic Minority Health and Health Disparities Program applications will consider the following four generic factors listed, in descending order of weight.

A. Factor 1: Program Plan (35%)

Appropriateness and merit of proposed approach and specific activities for each of the four required project components and each objective.

Logic and sequencing of the planned approaches as they relate to the needs of minority and rural populations in Mississippi and to the objectives.

Soundness of the established partnership and the roles of the partners in the program.

Soundness of the plan for self-sufficiency and potential for the Institute to be continued beyond Federal funding.

Applicant's capability to implement, manage, and evaluate the project as determined by:

—Qualifications and appropriateness of proposed staff or requirements for “to be hired” staff and consultants.

—Proposed level of effort for each staff member.

—Management, research, and service delivery experience of the applicant.

—The applicant's organizational structure and proposed project organizational structure.

The applicant's prominence and influence in the state, connections to critical players and information, ability to bring together key individuals and organizations from both the local and state level to effect change.

—Appropriateness of defined roles including staff reporting channels and that of any proposed consultants.

—Clear lines of authority among the proposed staff within and between the partnering organizations.

B. Factor 2: Evaluation Plan (25%)

The degree to which expected results are appropriate for objectives and activities.

Appropriateness of the proposed data collection plan (including demographic data to be collected on project participants), analysis and reporting procedures.

Suitability of process, outcome, and impact measures for this type of project.

Clarity and soundness of the intent and plans to assess and document progress towards achieving objectives, planned activities, and intended outcomes.

Potential for the proposed project to impact the health status of the target population(s).

Soundness of the plan for diffusing project outcomes.

C. Factor 3: Background (20%)

Demonstrated experience with addressing health problems for the targeted populations in Mississippi.

Significance and prevalence of health issues in the proposed community and target population.

Extent to which the applicant demonstrates access to the target community(ies), and whether it is well positioned and accepted within the community(ies) to be served.

Extent and documented outcome of past efforts and activities with the target population.

D. Factor 4: Objectives (20%)

Merit of the objectives for each of the four required program components (i.e., Research, Services, Education and Health Information) .

Relevance to the OMH Program purpose and expectations, and the stated problems to be addressed by the proposed project.

Degree to which the objectives are stated in measurable terms.

Attainability of the objectives in the stated time frames.

2. Review and Selection Process

Accepted Mississippi Institute for Improvement of Geographic Minority Health and Health Disparities Program applications will be reviewed for technical merit in accordance with PHS policies. Applications will be evaluated by an Objective Review Committee (ORC). Committee members are chosen for their expertise in minority health and health disparities, and their understanding of the unique health problems and related issues confronted by the racial, ethnic and rural populations in the United States. Funding decisions will be determined by the Deputy Assistant Secretary for Minority Health who will take under consideration the recommendations and ratings of the ORC.

3. Anticipated Award Date

September 1, 2006.

Section VI. Award Administration Information

1. Award Notice

The successful applicant will receive a notification letter from the Deputy Assistant Secretary for Minority Health and a Notice of Grant Award (NGA), signed by the OPHS Grants Management Officer. The NGA shall be the only binding, authorizing document between the recipient and the Office of Minority Health. Unsuccessful applicants will receive notification from OPHS.

2. Administrative and National Policy Requirements

In accepting this award, the grantee stipulates that the award and any activities thereunder are subject to all provisions of 45 CFR parts 74 and 92, currently in effect or implemented during the period of the grant.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

The successful applicant under this notice will submit: (1) Semi-annual progress reports; (2) an annual Financial Status Report; and (3) a final progress report and Financial Status Report in the format established by the OMH, in accordance with provisions of the general regulations which apply under “Monitoring and Reporting Program Performance,” 45 CFR Part 74.51-74.52, with the excepting of State and local governments to which 45 CFR part 92, Subpart C reporting requirements apply.

Uniform Data Set: The Uniform Data Set (UDS) is a web-based system used by OMH grantees to electronically report progress data to OMH. It allows OMH to more clearly and systematically link grant activities to OMH-wide goals and objectives, and document programming impacts and results. All OMH grantees are required to report program information via the UDS (http://www.dsgonline.com/omh/uds). Training will be provided on the use of the UDS system.

The grantee will be informed of the progress report due dates and means of submission. Instructions and report format will be provided prior to the required due date. The Annual Financial Status Report is due no later than 90 days after the close of each budget period. The final progress report and Financial Status Report are due 90 days after the end of the project period. Instructions and due dates will provided prior to required submission.

Section VII. Agency Contacts

For questions on budget and business aspects for the application, contact Mr. DeWayne Wynn, Grants Management Specialist, OPHS Office of Grants Management, Tower Building, 1101 Wootton Parkway, Suite 550, Rockville, MD 20852. Mr. Wynn can be reached by telephone at (240) 453-8822; or by e-mail at dwynn@osophs.dhh.gov.

For questions related to the Mississippi Institute for Improvement of Geographic Minority Health and Health Disparities Program or assistance in preparing a grant proposal, contact Ms. Cynthia Amis, Director, Division of Program Operations, Office of Minority Health, Tower Building, Suite 600, 1101 Wootton Parkway, Rockville, MD 20852. Ms. Amis can be reached by telephone at (240) 453-8444; or by e-mail at camis@osophs.dhhs.gov.

For additional technical assistance, contact the OMH Regional Minority Health Consultant for your region listed in your grant application kit.

For health information, call the OMH Resource Center (OMHRC) at 1-800-444-6472.

Section VIII. Other Information

1. Healthy People 2010

The Public Health Service (PHS) is committed to achieving the health promoting and disease prevention objectives of Healthy People 2010, a PHS-led national activity announced in January 2000 to eliminate health disparities and improve years and quality of life. More information may be found on the Healthy People 2010 Web site: http://www.healthypeople.gov and copies of the documents may be downloaded. Copies of the Healthy People 2010: Volumes I and II can be purchased by calling (202) 512-1800 (cost $70.00 for printed version; $20.00 for CD-ROM). Another reference is the Healthy People 2010 Final Review-2001.

For one free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

2. Definitions

For purposes of this announcement, the following definitions apply:

Community-Based Organizations—Private, nonprofit organizations that are representative of communities or significant segments of communities where the control and decision making powers are located at the community level.

Community-Based, Minority-Serving Organization—A community-based organization that has a history of service to racial/ethnic minority populations. (See Definition of Minority Populations below.)

Minority Populations—American Indian or Alaska Native; Asian; Black or African American; Hispanic or Latino; Native Hawaiian or other Pacific Islander (42 U.S.C. 300u-6, section 1707 of the Public Health Service Act, as amended)

Nonprofit Organizations—Corporations or associations, no part of whose net earnings may lawfully inure to the benefit of any private shareholder or individual. Proof of nonprofit status must be submitted by private nonprofit organizations with the application or, if previously filed with PHS, the applicant must state where and when the proof was submitted.

Dated: May 26, 2006.
Garth N. Graham,
Deputy Assistant Secretary for Minority Health.

[FR Doc. E6-9315 Filed 6-13-06; 8:45 am]

BILLING CODE 4150-29-P